DEPARTMENT OF HEALTH AND HUMAN SERVICES

Centers for Disease Control and Prevention

Advisory Committee to the Director (ACD), Centers for Disease Control and Prevention (CDC)—National Biosurveillance Advisory Subcommittee (NBAS)

In accordance with section 10(a)(2) of the Federal Advisory Committee Act (Pub. L. 92-463), the CDC announces the following meeting of aforementioned subcommittee:

Time and Date: 8 a.m.-3:30 p.m., August 24, 2010.

Place: Emory Conference Center Hotel, 1615 Clifton Road, N.E., Atlanta, GA 30329.

Status: Open to the public, limited only by the space available. The meeting room accommodates approximately 75 people. The public is welcome to participate during the public comment periods. The public comment periods are tentatively scheduled for 10 a.m.-10:05 a.m. and 3:25 p.m.-3:30 p.m.

Purpose: As a subcommittee to the CDC's ACD, the NBAS will provide counsel to the CDC and the Federal government through the ACD regarding a broad range of human health surveillance issues arising from the development and implementation of a roadmap for the human health component of a national biosurveillance system.

Matters to be Discussed: Agenda items will include establishing task force action plans for developing recommendations and guidance in order to expand and strengthen the national portfolio of activities in biosurveillance practice and scientific assessment.

The agenda is subject to change as priorities dictate.

Contact Person for More Information: Pamela Diaz, M.D., Designated Federal Officer, ACD,CDC—NBAS, 1600 Clifton Road, NE., M/S E-33, Atlanta, GA 30333. Telephone: (770) 488-8806. E-mail: pdiaz@cdc.gov. For security reasons, members of the public interested in attending the meeting should contact Mark Byers, Telephone: (770) 488-8619, E-mail: mbyers@cdc.gov. The deadline for notification of attendance is August 13, 2010.

The Director, Management Analysis and Services Office, has been delegated the authority to sign Federal Register notices pertaining to announcements of meetings and other committee management activities, for both CDC and the Agency for Toxic Substances and Disease Registry.

Dated: August 4, 2010.
Elaine L. Baker,
Director, Management Analysis and Services Office, Centers for Disease Control and Prevention.

[FR Doc. 2010-19783 Filed 8-10-10; 8:45 am]

BILLING CODE 4163-18-P